ENVIRONMENTAL PROTECTION AGENCY

40 CFR Part 180

[EPA-HQ-OPP-2021-0656; FRL-9326-01-OCSPP]

Alcohols, C10-16, ethoxylated, sulfates, mono(hydroxyethyl)ammonium salts (CAS No. 157627-92-4); Tolerance Exemption

Correction

In Rule document 2022-01486, appearing on pages 5703-5708, in the issue of Wednesday, February 2, 2022, make the following correction:

§ 180.930 Inert ingredients applied to animals; exemptions from the requirement of a tolerance. [Corrected]

On page 5708, the table heading “TABLE 1 TO 180.910” is corrected to read “TABLE 1 TO 180.930”.

[FR Doc. C1-2022-01486 Filed 3-18-22; 8:45 am]

BILLING CODE 0099-10-D